DEPARTMENT OF EDUCATION

Reopening the Fiscal Year (FY) 2021 Competition for Certain Eligible Applicants; National Comprehensive Center on Improving Literacy for Students With Disabilities

AGENCY: Offices of Elementary and Secondary Education and Special Education and Rehabilitative Services, Department of Education.

ACTION: Notice.

SUMMARY: On July 13, 2021, the Department of Education (Department) published in the Federal Register a notice inviting applications (NIA) for the FY 2021 National Comprehensive Center on Improving Literacy for Students With Disabilities competition, Assistance Listing Number 84.283D. This notice reopens this competition to allow more time for the preparation and submission of applications by eligible applicants affected by the severe weather located in a federally declared disaster area as determined by the Federal Emergency Management Agency (FEMA), which has been designated for Individual Assistance or Public Assistance under Presidential major disaster declarations DR-4611-LA and EM-3569-MS (“affected applicants”).

DATES: Deadline for Transmittal of Applications for Affected Applicants: September 13, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Tina Diamond, U.S. Department of Education, 400 Maryland Avenue SW, Room 5142, Potomac Center Plaza, Washington, DC 20202-5076. Telephone: (202) 245-6723. Email: Christina.Diamond@ed.gov.

If you use a telecommunications device for the deaf (TDD) or a text telephone (TTY), call the Federal Relay Service (FRS), toll-free, at 1-800-877-8339.

SUPPLEMENTARY INFORMATION: On July 13, 2021, we published in the Federal Register (86 FR 36722) the NIA for the National Comprehensive Center on Improving Literacy for Students With Disabilities. Under the NIA, applications were due on September 1, 2021. We are reopening this competition for affected applicants until September 13, 2021, to allow those applicants more time to prepare and submit their applications.

Eligibility: The reopening of this competition applies to eligible applicants under the National Comprehensive Center on Improving Literacy for Students With Disabilities competition that are affected applicants. An eligible applicant for this competition is defined in the NIA. The federally declared disaster areas under these declarations are the jurisdictions identified by FEMA under declarations DR-4611-LA and EM-3569-MS in which assistance to individuals or public assistance has been authorized. To determine if you are an affected applicant, see the Emergency Declarations available at: www.fema.gov/disaster/4611, www.fema.gov/disaster/4611/designated-areas, www.fema.gov/disaster/3569, and www.fema.gov/disaster/3569/designated-areas.

Affected applicants that have already timely submitted applications under the FY 2021 National Comprehensive Center on Improving Literacy for Students With Disabilities competition may submit a new application, but they are not required to do so. If a new application is not submitted, the Department will use the application that was submitted by the original deadline. If a new application is submitted, the Department will consider the application that is last submitted and timely received. Applications that did not meet the original deadline must be resubmitted to be considered for review. An affected applicant submitting an application as part of the reopened competition must provide supporting information (e.g., by including the applicant's organization address) in its application that it is located in a jurisdiction that is part of one of the applicable federally declared disaster areas and must provide appropriate supporting documentation, if requested.

We are not reopening the application period for all applicants. Thus, applications from applicants that are not affected applicants may not be submitted as part of this reopened period for submission of applications.

Note: All information in the NIA remains the same, except for the deadline date for affected applicants.

Program Authority: Section 203 of the Educational Technical Assistance Act of 2002 (20 U.S.C. 9602) and section 2244 of the Elementary and Secondary Education Act of 1965 (20 U.S.C. 6674).

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Acting Assistant Secretary for the Office of Special Education and Rehabilitative Services.
Ian Rosenblum,
Deputy Assistant Secretary for Policy and Programs Delegated the Authority to Perform the Functions and Duties of the Assistant Secretary, Office of Elementary and Secondary Education.

[FR Doc. 2021-19876 Filed 9-10-21; 4:15 pm]

BILLING CODE 4000-01-P